DEPARTMENT OF COMMERCE

International Trade Administration

[A-570-848]

Freshwater Crawfish Tail Meat From the People's Republic of China: Initiation of Antidumping Duty New Shipper Review

AGENCY: Enforcement and Compliance, International Trade Administration, Department of Commerce

DATES: Applicable April 30, 2018.

SUMMARY: The Department of Commerce (Commerce) is initiating a new shipper review (NSR) of the antidumping duty order on freshwater crawfish tail meat from the People's Republic of China (China) with respect to Nanjing Yinxiangchen International Trade Co., Ltd. (Yinxiangchen). We have determined that this request meets the statutory and regulatory requirements for initiation.

FOR FURTHER INFORMATION CONTACT: Hermes Pinilla, AD/CVD Operations Office I, Enforcement and Compliance, International Trade Administration, U.S. Department of Commerce, 1401 Constitution Avenue NW, Washington, DC 20230; Telephone: (202) 482-3477.

SUPPLEMENTARY INFORMATION:

Background

Commerce published the antidumping duty Order on freshwater crawfish tail meat from China in the Federal Register on September 15, 1997.¹ Pursuant to section 751(a)(2)(B) of the Tariff Act of 1930, as amended (the Act), Commerce received a timely and properly filed request for an NSR from Yinxiangchen during the six months following the anniversary month of the antidumping duty Order.² In its request, Yinxiangchen certified that it is both a producer and exporter of the subject merchandise upon which the Order is based.³

¹ See Notice of Amendment to Final Determination of Sales at Less Than Fair Value and Antidumping Duty Order: Freshwater Crawfish Tail Meat from the People's Republic of China, 62 FR 48218 (September 15, 1997) (Order).

² See Yinxiangchen's Letter, “Freshwater Crawfish Tail Meat from the People's Republic of China: Request for New Shipper Review,” dated March 26, 2018 (Yinxiangchen's NSR Request).

³ See Yinxiangchen's NSR Request at Exhibit 1.

Pursuant to section 751(a)(2)(B)) of the Act and 19 CFR 351.214(b)(2)(i), Yinxiangchen certified that it did not export subject merchandise to the United States during the period of investigation (POI).⁴ In addition, pursuant to section 751(a)(2)(B) of the Act and 19 CFR 351.214(b)(2)(iii)(A), Yinxiangchen certified that, since the initiation of the investigation, it had never been affiliated with any exporter or producer who exported subject merchandise to the United States during the POI, including those respondents not individually examined during the POI.⁵ As required by 19 CFR 351.214(b)(2)(iii)(B), Yinxiangchen also certified that its export activities were not controlled by the Government of China.⁶

⁴ See id.

⁵ See id.

⁶ Id.

In addition to the certifications described above, pursuant to 19 CFR 351.214(b)(2)(iv), Yinxiangchen submitted documentation establishing the following: (1) The date on which it first shipped subject merchandise for export to the United States; (2) the volume of its first shipment; and (3) the date of its first sale to an unaffiliated customer in the United States.⁷

⁷ See id. at Exhibit 2.

Period of Review

Pursuant to 19 CFR 351.214(c), an exporter or producer may request a NSR within one year of the date on which its subject merchandise first entered. Further, 19 CFR 351.214(d)(1) states that Commerce will initiate an NSR in the calendar month immediately following the anniversary month or the semiannual anniversary month if the request for review is made during the six-month period ending with the end of the anniversary month or the semi-annual anniversary month, whichever is applicable. In accordance with 19 CFR 351.214(g)(1)(i)(B), the period of review (POR) for an NSR initiated in the month immediately following the semi-annual anniversary month will be the six-month period immediately preceding the semi-annual anniversary month. Yinxiangchen requested an NSR within one year from the date its merchandise first entered. The request was filed in March 2018, the semi-annual anniversary month of the Order. Therefore, the POR for this NSR is September 1, 2017, throughFebruary 28, 2018.

Initiation of New Shipper Review

Pursuant to section 751(a)(2)(B) of the Act and 19 CFR 351.214(b), we find that the request from Yinxiangchen meets the threshold requirements for the initiation of an NSR for shipments of freshwater crawfish tail meat from China produced and exported during the POR by Yinxiangchen.⁸

⁸ See the Memorandum, “Freshwater Crawfish Tail Meat from the People's Republic of China: Initiation Checklist for Antidumping Duty New Shipper Review of Nanjing Yinxiangchen International Trade Co., Ltd.,” dated concurrently with this notice.

The Trade Facilitation and Trade Enforcement Act of 2015 ⁹ amended section 751(a)(2)(B) of the Act, including provisions which apply to this NSR. Specifically, the TFTEA amended the Act so that, as of February 24, 2016, Commerce no longer instructs U.S. Customs and Border Protection (CBP) to allow an importer the option of posting a bond or security in lieu of a cash deposit during the pendency of an NSR.

⁹ The Trade Facilitation and Trade Enforcement Act of 2015, H.R. 644, Public Law 114-125 (February 24, 2016) (TFTEA).

Unless extended, Commerce intends to issue the preliminary results of this NSR no later than 180 days from the date of initiation and the final results of the review no later than 90 days after the date the preliminary results are issued.¹⁰

¹⁰ See section 751(a)(2)(B)(iv) of the Act.

It is Commerce's usual practice, in cases involving non-market economy countries, to require that a company seeking to establish eligibility for an antidumping duty rate separate from the country-wide rate provide evidence of de jure and de facto absence of government control over the company's export activities. Accordingly, we will issue a questionnaire to Yinxiangchen which will include a section requesting information concerning the company's eligibility for a separate rate. We will rescind the NSR of Yinxiangchen if we determine that the company has not demonstrated that it is eligible for a separate rate.

Because Yinxiangchen certified that it produced and exported subject merchandise, the sale of which is the basis for its request for an NSR, we will instruct CBP to continue to suspend liquidation of all entries of subject merchandise produced and exported by Yinxiangchen.

To assist in its analysis of the bona fide nature of Yinxiangchen's sales, upon initiation of this NSR, Commerce will require Yinxiangchen to submit, on an ongoing basis, complete transaction information concerning any sales of subject merchandise to the United States that were made subsequent to the POR.

Interested parties requiring access to proprietary information in the NSR should submit applications for disclosure under administrative protective order, in accordance with 19 CFR 351.305 and 351.306.

This initiation and notice are published in accordance with section 751(a)(2)(B) of the Act and 19 CFR 351.214 and 351.221(c)(1)(i).

Dated: April 24, 2018.
James Maeder,
Associate Deputy Assistant Secretary for Antidumping and Countervailing Duty Operations, performing the duties of Deputy Assistant Secretary for Antidumping and Countervailing Duty Operations.

[FR Doc. 2018-09046 Filed 4-27-18; 8:45 am]

BILLING CODE 3510-DS-P